DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, the United States Department of Agriculture announces a meeting of the National Agricultural Research, Extension, Education, and Economics Advisory Board. This meeting is open to the general public.

DATES: The National Agricultural Research, Extension, Education, and Economics Advisory Board will meet October 18-20, 2005.

The public may file written comments before or up to two weeks after the meeting with the contact person.

ADDRESSES: The meeting will take place at the Best Western Capitol Skyline Hotel, 10 I Street, SW., Washington, DC 20024-4299. You may submit comments by any of the following methods: Mail/Hand-delivery: National Agricultural Research, Extension, Education, and Economics Advisory Board Office; U.S. Department of Agriculture; Room 344-A, Jamie L. Whitten Building; 1400 Independence Avenue, SW., Washington, DC 20250-2255; Fax: (202) 720-6199; E-mail: dhanfman@csrees.usda.gov.

FOR FURTHER INFORMATION CONTACT: Deborah Hanfman, Executive Director, National Agricultural Research, Extension, Education, and Economics Advisory Board, (202) 720-3684.

SUPPLEMENTARY INFORMATION: On Tuesday, October 18, 2005, 10 a.m. to 12 p.m., an Orientation Session for new National Agricultural Research, Extension, Education, and Economics Advisory Board (the Board) members will be held. The full Board meeting will convene at 1:30 p.m. with introductory remarks provided by the Chair of the Board and U.S. Department of Agriculture (USDA) officials. There will be introductions of Board members followed by a general Board business session, and election of Executive Committee officers. The Research, Education, and Economics (REE) mission area will respond on behalf of the Secretary to several Board recommendations made to USDA and REE over the past year, followed by Board questions and discussion. At 4 p.m., a professional staff member from the Agriculture Committee or Appropriations Subcommittee of U.S. Congress will be invited to provide perspectives on key food, fiber, and agricultural-related issues in Congress and share ideas on the Board's future role. This will be followed with comments on the 2007 Farm Bill as it relates to REE issues. A period will be open for public comments, and the meeting will adjourn at 5 p.m. An evening meeting will be held from 6 p.m. to 9 p.m. on “Critical Crossroads in Agriculture: Implications & Expectations for Research, Education, Extension & Economics.” Focus leaders will stimulate discussion on three specific mini-sessions within this theme: (1) Mitigating the Risk of Emerging Diseases Transmissible to Humans; (2) Changes in Rural America and Links to Research, Education, and Economics; and (3) Strengthening Partnerships. USDA's National Agricultural Library (NAL) will feature its role in serving REE, USDA, Land-Grant partners, and the Nation's citizenry on critical food, fiber, natural resources, and forestry issues.

On Wednesday, October 19, 2005, from 9 a.m. to 5:30 p.m., the three mini-sessions will be held to obtain expert input by stakeholders on the respective focus areas, with emphasis on the role that USDA's research, education, and economics can plan in addressing the issues. The floor will be open for public comments from 5:35 p.m. to 5:45 p.m. followed by adjournment.

On Thursday, October 20, 2005, there will be an important wrap-up of initial findings from the three mini focus sessions held the prior day, followed by public comments and adjournment of the Board meeting at 9 a.m. The Board's Specialty Crop Committee will hold an information gathering Listening Session following the Board Meeting. The Listening Session will be from 9:30 a.m. to 4:45 p.m. and on Friday, October 20, 2005, from 8:30 a.m. to 11:45 a.m. at the same hotel location in Washington, DC (see 70 FR 54350 September 14, 2005). Expert panelists will provide input on specific topics related to specialty crops and will suggest ways that research, extension, and economics can best support the needs of the specialty crop industry. The Listening Session will provide the Specialty Crop Committee with input to respond to its charge by Congress. Board members and interested individuals are encouraged to attend both public meetings.

Written comments by attendees or other interested stakeholders will be welcomed for the public record before and up to two weeks following the Board meeting (by close of business Thursday, November 3, 2005). All statements will become a part of the official record of the Board and will be kept on file for public review in the Board's office. For a copy of the draft agenda, please get in touch with the contact person cited above.

Done at Washington, DC this 28th day of September, 2005.
Merle D. Pierson,
Deputy Under Secretary, Research, Education, and Economics.

[FR Doc. 05-19706 Filed 9-29-05; 8:45 am]

BILLING CODE 3410-22-M